DEPARTMENT OF ENERGY

Federal Energy Regulatory Commission

[Docket No. OR11-4-000]

Tesoro Refining and Marketing Company and Tesoro Logistics Operations, LLC; Notice of Request for Jurisdictional Determination or Temporary Waiver of Tariff Filing and Reporting Requirements

On February 8, 2011, Tesoro Refining and Marketing Company (TRMC) and Tesoro Logistics Operations, LLC (TLO) (collectively, Tesoro) filed a Request for Jurisdictional Determination, or in the Alternative Temporary Waiver of Tariff Filing and Reporting Requirements. Tesoro requests that the Commission determine that certain pipeline spurs that are part of TRMC's internal refinery operations are not subject to the Commission's jurisdiction under the ICA. In the alternative, Tesoro requests that the Commission grant a temporary waiver of the tariff filing and reporting requirements of sections 6 and 20 of the Interstate Commerce Act for these facilities. Tesoro states that these pipeline spurs are presently owned by TRMC, but are intended for transfer to its affiliate, TLO. Tesoro states that the pipeline spurs are involved in an arrangement for the formation of a Master Limited Partnership (MLP) and the transfer of assets to that MLP.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Tuesday, March 22, 2010.

Dated: March 7, 2011.
Kimberly D. Bose,
Secretary.

[FR Doc. 2011-5707 Filed 3-11-11; 8:45 am]

BILLING CODE 6717-01-P